DEPARTMENT OF THE INTERIOR

Bureau of Indian Affairs

[212A2100DD/AAKC001030/A0A501010.999900253G]

Indian Gaming; Tribal-State Class III Gaming Compacts Taking Effect in the State of California

AGENCY: Bureau of Indian Affairs, Interior.

ACTION: Notice.

SUMMARY: The State of California submitted compacts governing certain forms of Class III gaming with six Tribes in California. This notice announces that the following compacts are taking effect: the Tribal-State Compact between the State of California and the Ione Band of Miwok Indians; the Tribal-State Compact between the State of California and the Mooretown Rancheria of Maidu Indians of California; the Tribal-State Compact between the State of California and Paskenta Band of Nomlaki Indians; the Tribal-State Compact between the State of California and the Shingle Springs Band of Miwok Indians; the Tribal-State Compact between the State of California and the Tolowa Dee-Ni' Nation; and the Tribal-State Compact between the State of California and the Tule River Indian Tribe of California.

DATES: The compacts take effect on December 11, 2020.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts are subject to review and approval by the Secretary. On October 14, 2020, the State of California submitted compacts governing certain forms of Class III gaming with six Tribes in California. The Secretary took no action on the following compacts within 45 days of their submission: The Tribal-State Compact between the State of California and the Ione Band of Miwok Indians; the Tribal-State Compact between the State of California and the Mooretown Rancheria of Maidu Indians of California; the Tribal-State Compact between the State of California and Paskenta Band of Nomlaki Indians; the Tribal-State Compact between the State of California and the Shingle Springs Band of Miwok Indians; the Tribal-State Compact between the State of California and the Tolowa Dee-Ni' Nation; and the Tribal-State Compact between the State of California and the Tule River Indian Tribe of California. Therefore, the Compacts are considered to have been approved, but only to the extent they are consistent with IGRA. See 25 U.S.C. 2710(d)(8)(C).

Tara Sweeney,
Assistant Secretary—Indian Affairs.

[FR Doc. 2020-27221 Filed 12-10-20; 8:45 am]

BILLING CODE 4337-15-P